DEPARTMENT OF COMMERCE

National Oceanic and Atmospheric Administration

Federal Consistency Appeal by Cangrejos Yacht Club, Puerto Rico

Date: Monday, August 18, 2014.

AGENCY: NOAA Office of General Counsel, Oceans and Coasts Section, National Oceanic and Atmospheric Administration, U.S. Department of Commerce.

ACTION: Notice of stay of record closure.

SUMMARY: This announcement provides notice that the decision record will be held open for an additional 30 days, until September 18, 2014, in the administrative appeal filed with the Department of Commerce by Cangrejos Yacht Club of Carolina, Puerto Rico.

Date: The decision record for the Cangrejos Yacht Club administrative appeal will close on September 18, 2014.

ADDRESSES: Materials from the appeal record are available at the Internet site http://www.ogc.doc.gov/czma.htm and at the Office of General Counsel, Oceans and Coasts Section, National Oceanic and Atmospheric Administration, U.S. Department of Commerce, 1305 East-West Highway, Suite 6111, Silver Spring, MD 20910.

FOR FURTHER INFORMATION CONTACT: Suzanne Bass, Attorney-Advisor, via email at suzanne.bass@noaa.gov, or at (301) 713-7387.

SUPPLEMENTARY INFORMATION: On January 2, 2014, Pedro J. Bonilla, representing Cangrejos Yacht Club (CYC), filed notice of an appeal with the Secretary of Commerce (Secretary), pursuant to the Coastal Zone Management Act of 1972 (CZMA), 16 U.S.C. 1451 et seq., and implementing regulations found at 15 CFR Part 930, Subpart H. The appeal is taken from an objection by the Puerto Rico Planning Board (PRPB) to CYC's certification of consistency of a proposed dredging project in the Boca de Cangrejos Channel in Carolina, Puerto Rico. The certification indicates that the project is consistent with Puerto Rico's Coastal Management Program. The project would affect the natural resources or land and water uses of Maryland's coastal zone. Notice of the appeal was published on March 12, 2014.

The CZMA requires that a notice be published in the Federal Register indicating the date on which the decision record has been closed. 16 U.S.C. 1465(b)(2). The decision record is to be closed within 160 days of the notice of the appeal; however, the Secretary of Commerce may stay the closure of the record, for a period not to exceed 60 days. 15 CFR 930.130(a). The Secretary must issue a decision no later than 60 days after closure of the decision record. 15 CFR 930.130(b).

Additional information about the Cangrejos Yacht Club appeal and the CZMA appeals process is available from the NOAA General Counsel CZMA appeals Web site: http://coastalmanagement.noaa.gov/consistency/fcappealdecisions.html.

(Federal Domestic Assistance Catalog No. 11.419 Coastal Zone Management Program Assistance.)

Dated: August 14, 2014.
Jeffrey S. Dillen,
Acting Section Chief, Oceans and Coasts Section.

[FR Doc. 2014-19616 Filed 8-18-14; 8:45 am]

BILLING CODE 3510-22-P